DEPARTMENT OF COMMERCE

Bureau of Industry and Security

Agency Information Collection Activities; Submission to the Office of Management and Budget (OMB) for Review and Approval; Comment Request; Competitive Enhancement Needs Assessment Survey Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 25, 2024, during a 60-day comment period. This notice allows for an additional 30 days for public comments.

Agency: Bureau of Industry and Security, Commerce.

Title: Competitive Enhancement Needs Assessment Survey Program.

OMB Control Number: 0694-0083.

Form Number(s): None.

Type of Request: Regular submission, extension of a current information collection.

Number of Respondents: 2,400.

Average Hours per Response: 1 hour.

Burden Hours: 2,400.

Needs and Uses: This collection of information is necessary under the Defense Production Act of 1950 (DPA), as amended, and related Executive Order 13603. Under the Competitive Enhancement Needs Assessment Survey Program (The Program), the Bureau of Industry and Security's Office of Technology Evaluation (OTE) distributes surveys nationwide to businesses in order to determine which government competitive enhancement, procurement opportunity and business diversification programs would benefit their competitive position in the marketplace. The results of the mandatory surveys allow The Program to align industry stakeholders with the Federal and State resources best suited to meet their individual needs. The expertise of 70+ Federal and State government organizations is made available to The Program, in addition to the excess equipment and facilities resident in closed Federal installations plus the excess government equipment at government contractor facilities. The companies respond to the OTE program surveys on a mandatory basis.

Affected Public: Business or other for-profit organizations.

Frequency: On occasion.

Respondent's Obligation: Mandatory.

Legal Authority: Public Law 81-774 sec. 2151, DPA 1950, E.O. 12919.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0083.

Sheleen Dumas,
Department PRA Clearance Officer, Office of the Under Secretary for Economic Affairs, Commerce Department.

[FR Doc. 2024-17126 Filed 8-1-24; 8:45 am]

BILLING CODE 3510-33-P